DEPARTMENT OF TRANSPORTATION

Federal Aviation Administration

Notice of Opportunity for Public Comment on Surplus Property Release at the Cullman Regional-Folsom Field Airport, Vinemont, Alabama

AGENCY: Federal Aviation Administration, DOT.

ACTION: Notice of intent to rule on land release request.

SUMMARY: The FAA is considering a request from the Cullman Regional Airport Board to waive the requirement that 1.23± acres of airport property located at the Cullman Regional-Folsom Field Airport in Vinemont, Alabama, be used for aeronautical purposes.

DATES: Comments must be received on or before January 14, 2019.

ADDRESSES: Comments on this notice may be mailed or delivered in triplicate to the FAA to the following address: Jackson Airports District Office Attn: Wesley E. Mittlesteadt, Program Manager, 100 West Cross Street, Suite B, Jackson, MS 39208-2307.

In addition, one copy of any comments submitted to the FAA must be mailed or delivered to Cullman Regional-Folsom Field Airport, Attn: Ben Harrison, General Manager, 231 County Road 1360, Vinemont, AL 35179.

FOR FURTHER INFORMATION CONTACT: Wesley E. Mittlesteadt, Program Manager, Jackson Airports District Office, 100 West Cross Street, Suite B, Jackson, MS 39208-2307, (601) 664-9884. The land release request may be reviewed in person at this same location.

SUPPLEMENTARY INFORMATION: The FAA is reviewing a request by Cullman Regional Airport Board to release 1.23± acres of airport property at the Cullman Regional-Folsom Field Airport (CMD) under the provisions of Title 49, U.S.C. Section 47107(h). The property will be purchased by Vinemont/Providence Volunteer Fire Department for non-aeronautical purposes. The property is adjacent to residential property on the west quadrant of airport property just off County Road 1371. The net proceeds from the sale of this property will be used for eligible airport improvement projects for general aviation facilities at the Cullman Regional-Folsom Field Airport.

Any person may inspect the request in person at the FAA office listed above under FOR FURTHER INFORMATION CONTACT.

In addition, any person may, upon request, inspect the request, notice and other documents germane to the request in person at the Cullman Regional-Folsom Field Airport (CMD).

Issued in Jackson, Mississippi, on December 7, 2018.
William J. Schuller,
Acting Manager, Jackson Airports District Office Southern Region.

[FR Doc. 2018-27027 Filed 12-12-18; 8:45 am]

BILLING CODE 4910-13-P